DEPARTMENT OF COMMERCE

International Trade Administration

Notice of Opportunity To Request Administrative Review; Correction

AGENCY: Enforcement and Compliance, International Trade Administration, Department of Commerce.

ACTION: Notice; correction.

SUMMARY: The U.S. Department of Commerce (Commerce) published a notice of opportunity to request administrative reviews of orders, findings, or suspended investigations with anniversary dates in April 2024 in the Federal Register of April 1, 2024. Commerce inadvertently omitted the countervailing duty order on Common Alloy Aluminum Sheet from Bahrain, and the period of review for that order of 1/1/2023-12/31/2023, from that notice. We are including the missing information in this correction notice.

FOR FURTHER INFORMATION CONTACT: Brenda E. Brown, AD/CVD Operations, Customs Liaison Unit, Enforcement and Compliance, International Trade Administration, U.S. Department of Commerce, 1401 Constitution Avenue NW, Washington, DC 20230, telephone: (202) 482-4735.

SUPPLEMENTARY INFORMATION:

Correction

In the Federal Resister of April 1, 2024, in FR Doc. 2024-06838,¹ the table should have included the countervailing duty order on Common Alloy Aluminum Sheet from the Bahrain (C-525-002) and the period of review for that order of 1/1/2023-12/31/2023. Therefore, we are hereby notifying interested parties that not later than 30 days after the date of publication of this correction notice, they may request an administrative review of the countervailing duty order on Common Alloy Aluminum Sheet from Bahrain, and period of review for 1/1/2023-12/31/2023.

¹ See Antidumping or Countervailing Duty Order, Finding, or Suspended Investigation; Opportunity To Request Administrative Review, 89 FR 22390 (April 1, 2024).

Dated: April 11, 2024.
James Maeder,
Deputy Assistant Secretary for Antidumping and Countervailing Duty Operations.

[FR Doc. 2024-08128 Filed 4-16-24; 8:45 am]

BILLING CODE 3510-DS-P